DEPARTMENT OF ENERGY

Federal Energy Regulatory Commission

Combined Notice of Filings #2

Take notice that the Commission received the following electric rate filings:

Docket Numbers: ER10-1585-008; ER10-1594-008; ER10-1616-004; ER10-1617-008; ER10-1623-004; ER12-60-010; ER10-1632-010; ER10-1628-008.

Applicants: Alabama Electric Marketing, LLC, California Electric Marketing, LLC, New Covert Generating Company, LLC, New Mexico Electric Marketing, LLC, Tenaska Frontier Partners, Ltd., Tenaska Power Management, LLC, Tenaska Power Services Co., Texas Electric Marketing, LLC.

Description: Triennial Market Power Analysis for the Central Region of the Tenaska MBR Sellers.

Filed Date: 6/30/15.

Accession Number: 20150630-5259.

Comments Due: 5 p.m. ET 8/31/15.

Docket Numbers: ER10-2394-003; ER10-2395-003; ER10-2422-003; ER10-2389-002.

Applicants: BIV Generation Company, L.L.C., Colorado Power Partners, Rocky Mountain Power, LLC, San Joaquin Cogen, LLC.

Description: Notice of Non-Material Change in Status of BIV Generation Company, L.L.C., et al.

Filed Date: 6/29/15.

Accession Number: 20150629-5309.

Comments Due: 5 p.m. ET 7/20/15.

Docket Numbers: ER10-2405-004.

Applicants: High Prairie Wind Farm II, LLC.

Description: Updated Market Power Analysis for Central Region of High Prairie Wind Farm II, LLC.

Filed Date: 6/30/15.

Accession Number: 20150630-5252.

Comments Due: 5 p.m. ET 8/31/15.

Docket Numbers: ER10-2417-002; ER13-122-002.

Applicants: ExxonMobil Baton Rouge Complex, ExxonMobil Beaumont Complex.

Description: Triennial Market-Power Analysis for the Central Region of ExxonMobil Baton Rouge Complex, et al.

Filed Date: 6/29/15.

Accession Number: 20150629-5317.

Comments Due: 5 p.m. ET 8/28/15.

Docket Numbers: ER10-2507-005.

Applicants: Westar Energy, Inc.

Description: Triennial Market Power Analysis of Westar Energy, Inc.

Filed Date: 6/29/15.

Accession Number: 20150629-5313.

Comments Due: 5 p.m. ET 8/28/15.

Docket Numbers: ER10-2615-006; ER11-2335-007.

Applicants: Plum Point Energy Associates, LLC, Plum Point Services Company, LLC.

Description: Triennial MBR Filing of Plum Point Energy Associates, LLC and Plum Point Services Company, LLC. et al.

Filed Date: 6/29/15.

Accession Number: 20150629-5316.

Comments Due: 5 p.m. ET 8/28/15.

Docket Numbers: ER10-3079-009.

Applicants: Tyr Energy, LLC.

Description: Updated Market Power Analysis of Tyr Energy, LLC.

Filed Date: 6/29/15.

Accession Number: 20150629-5310.

Comments Due: 5 p.m. ET 8/28/15.

Docket Numbers: ER13-738-004; ER11-3097-008; ER10-1212-007; ER10-1186-007; ER10-1277-007; ER10-1211-007; ER10-1188-007; ER10-1329-007.

Applicants: DTE Electric Company, DTE Energy Trading, Inc., DTE River Rouge No. 1, LLC, DTE Energy Supply, Inc., DTE East China, LLC, DTE Pontiac North, LLC, St. Paul Cogeneration, LLC, DTE Stoneman, LLC.

Description: Updated Market Power Analysis for the Central Region of the DTE MBR Entities.

Filed Date: 6/29/15.

Accession Number: 20150629-5311.

Comments Due: 5 p.m. ET 8/28/15.

Docket Numbers: ER15-2081-000.

Applicants: PJM Interconnection, L.L.C.

Description: Section 205(d) Rate Filing: Original WMPA Service Agreement No. 4187; Queue No. Z2-099 to be effective 6/16/2015.

Filed Date: 6/30/15.

Accession Number: 20150630-5256.

Comments Due: 5 p.m. ET 7/21/15.

Docket Numbers: ER15-2082-000.

Applicants: ExxonMobil Baton Rouge Complex.

Description: Compliance filing: Compliance to be effective 7/1/2015.

Filed Date: 6/30/15.

Accession Number: 20150630-5266.

Comments Due: 5 p.m. ET 7/21/15.

Docket Numbers: ER15-2083-000.

Applicants: New York Independent System Operator, Inc.

Description: Section 205(d) Rate Filing: NYISO 205 filing EPC agreement among NYISO, Central Hudson and CPV Valley to be effective 6/3/2015.

Filed Date: 6/30/15.

Accession Number: 20150630-5269.

Comments Due: 5 p.m. ET 7/21/15.

Docket Numbers: ER15-2084-000.

Applicants: LG&E Energy Marketing Inc.

Description: Section 205(d) Rate Filing: Amendment to Market Based Rate Tariff to be effective 7/1/2015.

Filed Date: 6/30/15.

Accession Number: 20150630-5272.

Comments Due: 5 p.m. ET 7/21/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 30, 2015.
Nathaniel J. Davis, Sr.,
Deputy Secretary.

[FR Doc. 2015-16603 Filed 7-6-15; 8:45 am]

BILLING CODE 6717-01-P